DEPARTMENT OF AGRICULTURE

Forest Service

Notice of Resource Advisory Committee Meeting

AGENCY: Modoc Resource Advisory Committee, Alturas, California, USDA Forest Service.

ACTION: Notice of meeting.

SUMMARY: Pursuant to the authorities in the Federal Advisory Committees Act (Pub. L. 92-463) and under the Secure Rural Schools and Community Self-Determination Act of 2000 (Pub. L. 106-393) the Modoc National Forest's Modoc Resource Advisory Committee will meet Monday, January 9th, 2006 and February 6th, 2006 and March 6th in Alturas, California for business meetings. The meetings are open to the public.

SUPPLEMENTARY INFORMATION: The business meeting January 9th begins at 4 pm., at the Modoc National Forest Office, Conference Room, 800 West 12th St., Alturas. Agenda topics will include existing and future projects that meet the intent of Pub. L. 106-393. Time will also be set aside for public comments at the beginning of the meeting.

The business meeting February 6th begins at 4 pm; at the Modoc National Forest Office, Conference Room, 800 West 12th St., Alturas. Agenda topics will include existing and future projects that meet the intent of Pub. L. 106-393. Time will also be set aside for public comments at the beginning of the meeting.

The business meeting March 6th begins at 4 pm; at the Modoc National Forest Office, Conference Room, 800 West 12th St., Alturas. Agenda topics will include existing and future projects that meet the intent of Pub. L. 106-393. Time will also be set aside for public comments at the beginning of the meeting.

FOR FURTHER INFORMATION CONTACT: Stan Sylva, Forest Supervisor and Designated Federal Officer, at (530) 233-8700; or Public Affairs Officer Louis J Haynes at (530) 233-8846.

Stanley G. Sylva,
Forest Supervisor.

[FR Doc. E5-7548 Filed 12-19-05; 8:45 am]

BILLING CODE 3410-11-P